DEPARTMENT OF HEALTH AND HUMAN SERVICES

Meeting of the Advisory Committee on Minority Health

AGENCY: Department of Health and Human Services, Office of the Secretary, Office of Public Health and Science, Office of Minority Health.

ACTION: Notice: correction.

SUMMARY: The Department of Health and Human Services published a notice in the Federal Register of February 4, 2009 announcing a February 24, 2009 meeting of the Advisory Committee on Minority Health. It was announced that this meeting would be held at The Westin National Harbor, 171 Waterfront Street, Oxon Hill, MD. Due to unforseen circumstances the location of the meeting has been changed.

FOR FURTHER INFORMATION CONTACT: Ms. Monica A. Baltimore, Tower Building, 1101 Wootton Parkway, Suite 600, Rockville, Maryland 20852. Phone: 240-453-2882 Fax: 240-453-2883.

Correction

In the Federal Register of February 4, 2009, Vol. 74, No. 22, on page 6041, in the 2nd column, correct the ADDRESSES caption to read:

The meeting will be held at The Gaylord National and Convention Center, Annapolis Rooms 1 & 2, 201 Waterfront Street (National Harbor), Oxon Hill, MD 20745.

Dated: February 9, 2009.
Mirtha R. Beadle,
Deputy Director, Office of Minority Health, Office of Public Health and Science, Office of the Secretary, U.S. Department of Health and Human Services.

[FR Doc. E9-3014 Filed 2-11-09; 8:45 am]

BILLING CODE 4150-29-P